ENVIRONMENTAL PROTECTION AGENCY

[FRL-6857-4]

John P. Saad Superfund Site; Notice of Proposed Settlement

AGENCY: Environmental Protection Agency.

ACTION: Notice of proposed settlements.

SUMMARY: The United States Environmental Protection Agency (EPA) proposed to enter into three (2) cost recovery settlements, one (1) pursuant to section 122(g) and one(1) pursuant to section 122(h) of the Comprehensive Environmental Response, Compensation, and Liability Act (CERCLA), 42 U.S.C. 9622(g). These administrative settlements will resolve the settling party's liability for past response costs incurred by EPA at the John P. Saad Superfund Site located in Nashville, Tennessee. EPA will consider public comments on the proposed settlements for thirty (30) days. EPA may withdraw from or modify the proposed settlements should such comments disclose facts or considerations which indicate that the proposed settlements are inappropriate, improper, or inadequate.

Copies of the proposed settlements are available from: Ms. Paula V. Batchelor, Waste Management Division, U.S. EPA Region 4, 61 Forsyth Street, Atlanta, Georgia 30303, 404/562-8887.

Written comments may be submitted to Ms. Batchelor within 30 calendar days of the date of publication.

Dated: June 22, 2000.
Anita Davis,
Acting Chief, Program Services Branch, Waste Management Division.

[FR Doc. 00-21670 Filed 8-23-00; 8:45 am]

BILLING CODE 6560-50-P